DEPARTMENT OF TRANSPORTATION

Federal Aviation Administration

[Docket No.: FAA-2015-1006]

Discontinuation of Airport Advisory Service in the Contiguous United States, Puerto Rico, and Hawaii

AGENCY: Federal Aviation Administration (FAA), DOT.

ACTION: Notice of proposed policy.

SUMMARY: The FAA is proposing to revise its policy concerning the provision of Airport Advisory services. Under the proposal, Airport Advisory services would be discontinued in the contiguous United States, Puerto Rico, and Hawaii. The policy would continue to apply to the state of Alaska only.

DATES: Submit comments on or before July 30, 2015.

ADDRESSES: You may send comments identified by docket number FAA-2015-1006 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Alan Wilkes, Manager, Flight Service NAS Initiative Operations/Implementation, Federal Aviation Administration, 800 Independence Avenue SW., Washington, DC 20591; telephone 202-267-7771; Fax (202) 267-6310; email Alan.Wilkes@faa.gov.

SUPPLEMENTARY INFORMATION:

Background

The criteria for providing Airport Advisory (AA) services at Flight Service Stations (FSS) is provided in FAA Order 7210.3, Facility Operation and Administration; specifically, paragraph 13-4-5, addresses Local Airport Advisory (LAA), Remote Airport Advisory (RAA) and Remote Airport Information Service (RAIS). Section (b) of that paragraph requires, in part, that Flight Service Stations provide RAA when the employee productivity factor is high enough to justify the cost of providing the service.¹

¹ The facility's productivity factor is determined by dividing the annual RAA service count by 16,000. The productivity factor is compared to the number of employees used to provide the service and must be equal

to or greater than the number of employees needed to provide the service. Normally about 2.5 employees are factored annually to provide 10 hours of service per day.

In 2005, Lockheed Martin took over flight service operations at 58 locations as part of a 5-year contract covering the Contiguous United States (CONUS), Puerto Rico, and Hawaii. Lockheed Martin subsequently consolidated operations, reducing the number of facilities from 58 to 18 to the current number of 5. Consolidation had previously been recommended by stakeholders, including both the FAA and the Office of Inspector General (OIG), to reduce cost and improve operational efficiency, regardless of whether those services continued to be provided by the FAA, or a contractor.² As part of Lockheed Martin's consolidation, AA services transitioned from Local Airport Advisory (LAA) services, located at the airport where the service is provided, to Remote Airport Advisory (RAA) services, not located at the airport where the service is provided.³ Additionally, FAA exercised the option to extend the contract by an additional 3 years, followed by another 2 years.

² OIG Report Number AV-2002-064, “Automated Flight Service Stations: Significant Benefits Could Be Realized by Consolidating AFSS Sites in Conjunction With Deployment of OASIS,” December 7, 2001. IG reports and testimonies are available on our Web site: www.oig.dot.gov.

³ On September 6, 2006 the FAA sought public comment regarding Notice concerning Airport Advisory Service at Certain Airports in the Continental United States, Excluding Alaska (71 FR 52602). This notice requested comment concerning the necessity, availability, importance, and use of the AA service. The FAA received 95 comments in response to the 2006 notice. When comment was solicited in 2006 users still regularly used AA services, and because providing the service was written into the contract with Lockheed Martin the FAA did not propose to discontinue the service.

Today and where available, RAA service is provided upon request by FSS personnel via ground-to-air communication on the common traffic advisory frequency (CTAF) at certain airports without an operating control tower that have certified automated weather reporting via voice capability. The service provides information to pilots as needed, such as, wind direction and speed, favored or designated runway, altimeter setting, information about observed or reported traffic, weather, and appropriate Notice to Airman (NOTAM) information.

Currently, Lockheed Martin provides RAA services at 19 locations. The requirements of the FAA flight service contract with Lockheed Martin have been under review in preparation for the upcoming contract renewal. As part of the FAA review process, the Flight Services Quality Assurance Evaluation Group found low usage at the locations still receiving the service. At 18 of the 19 remaining locations, a sample of historical data reflects that pilots contact the RAA service an average of less than 1 time per day. At Millville Municipal Airport in Millville, NJ, pilots contact the RAA service an average of 14 times per day.⁴ The frequency of RAA service no longer justifies the continuation of the service due to the lack of productivity.

⁴ Lockheed Martin contact history daily averages, July 12-26 and October 1-15, 2014.

Additionally, pilots are using other information resources, such as, Automated Surface Observing Systems (ASOS), Automated Weather Sensors System (AWSS), Automated Weather Observing System (AWOS), Unicom, and other commercial aviation information services. The combined resources provide the pilot the same or higher level of flight information as RAA service and the service has become redundant.

The FAA proposes to discontinue the requirement for FSSs to provide AA services in the Contiguous United States, Puerto Rico, and Hawaii effective October 1, 2015, which would result in the service no longer being available at the remaining 19 locations. The AA services in the state of Alaska would not be affected by this proposed change. Alaska depends on aviation because of the unique challenges presented by the remote mountainous terrain and weather conditions across the state. By soliciting comment to this notice, the FAA seeks to address public concerns and will consider any comments in determining whether to change the policy.

Applicability

The FAA proposes to revise the criteria set forth in FAA Order 7110.10, Chapter 4, Section 4; and FAA Order 7210.3, paragraph 13-4-5 to only be applicable to the State of Alaska. The policy would be discontinued at locations within the CONUS, Puerto Rico, and Hawaii. If adopted, RAA service would no longer be provided at the following airports:

Altoona-Blair County Airport (AOO), Altoona, Pennsylvania;

Columbia Regional Airport (COU), Columbia, Missouri;

Elkins-Randolph Airport (EKN), Elkins, West Virginia;

Huron Regional Airport (HON), Huron, South Dakota;

Jackson-McKellar-Sipes Regional Airport (MKL), Jackson, Tennessee;

Jonesboro Municipal Airport (JBR), Jonesboro, Arkansas;

Macon-Middle Georgia Regional Airport (MCN), Macon, Georgia;

Anderson Regional Airport (AND), Anderson, South Carolina;

Anniston Metropolitan Airport (ANB), Anniston, Alabama;

Casper-Natrona County International Airport (CPR), Casper, Wyoming;

Gainesville Regional Airport (GNV), Gainesville, Florida;

Grand Forks International Airport (GFK), Grand Forks, North Dakota;

Greenwood-Leflore Airport (GWO), Greenwood, Mississippi;

Louisville-Bowman Field Airport (LOU), Louisville, Kentucky;

Millville Municipal Airport (MIV), Millville, New Jersey;

Prescott-Ernest A. Love Field Airport (PRC), Prescott, Arizona;

St. Louis-Spirit of St. Louis Airport (SUS), St. Louis, Missouri;

St. Petersburg-Clearwater International Airport (PIE), St. Petersburg, Florida; and

Miami-Kendall-Tamiami Executive Airport (TMB), Miami, Florida.

II. Additional Information

A. Comments Invited

The FAA invites interested persons to participate in this notice by submitting written comments, data, or views. The agency also invites comments relating to the economic, environmental, energy, or federalism impacts that might result from adopting the notice in this document. The most helpful comments reference a specific portion of the notice, explain the reason for any recommended change, and include supporting data. To ensure the docket does not contain duplicate comments, commenters should send only one copy of written comments, or if comments are filed electronically, commenters should submit only one time.

The FAA will file in the docket all comments it receives, as well as a report summarizing each substantive public contact with FAA personnel concerning this action. Before acting on this notice, the FAA will consider all comments it receives on or before the closing date for comments. The FAA will consider comments filed after the comment period has closed if it is possible to do so without incurring expense or delay. The agency may change this notice in light of the comments it receives.

Proprietary or Confidential Business Information: Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or amendment number of this notice.

All documents the FAA considered in developing this notice, including economic analyses and technical reports, may be accessed from the Internet through the Federal eRulemaking Portal referenced in item (1) above.

Issued in Washington, DC, on June 23, 2015.
Jeanne Giering,
Director of Flight Services.

[FR Doc. 2015-15949 Filed 6-29-15; 8:45 am]

BILLING CODE 4910-13P